DEPARTMENT OF COMMERCE

National Oceanic and Atmospheric Administration

RIN 0648-XE465

Mid-Atlantic Fishery Management Council (MAFMC); Meeting

AGENCY: National Marine Fisheries Service (NMFS), National Oceanic and Atmospheric Administration (NOAA), Commerce.

ACTION: Notice of a public meeting.

SUMMARY: The Scientific and Statistical Committee (SSC) of the Mid-Atlantic Fishery Management Council (Council) will hold a meeting.

DATES: The meeting will be held on Tuesday and Wednesday, March 15-16, 2016, beginning at 10 a.m. on March 15 and conclude by 3 p.m. on March 16. For agenda details, see SUPPLEMENTARY INFORMATION.

ADDRESSES: The meeting will at the Royal Sonesta Harbor Court, 550 Light Street, Baltimore, MD 21202; telephone: 410-234-0550.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION:

Agenda

Agenda items to be discussed at the SSC meeting include: Review fishery performance reports and multi-year ABC specifications for Golden Tilefish; discuss MAFMC risk policy and assignment of CVs for Mid-Atlantic assessments; discuss SSC membership needs; receive a report from the Black Sea Bass Review Subgroup on specification of spatial structure within the BSB assessment; review Blueline Tilefish fishery information and discuss ABC specifications.

This meeting is physically accessible to people with disabilities. Requests for sign language interpretation or other auxiliary aid should be directed to M. Jan Saunders, (302) 526-5251, at least 5 days prior to the meeting date.

Authority: 16 U.S.C. 1801 et seq.

Dated: February 22, 2016.
Tracey L. Thompson,
Acting Director, Office of Sustainable Fisheries, National Marine Fisheries Service.

[FR Doc. 2016-04007 Filed 2-24-16; 8:45 am]

BILLING CODE 3510-22-P